DEPARTMENT OF THE INTERIOR

National Park Service

36 CFR Part 7

RIN 1024-AC82

Special Regulations; Areas of the National Park System: Delay of Effective Date

AGENCY: National Park Service, Interior.

ACTION: Final rule; delay of effective date.

SUMMARY: In accordance with the memorandum of January 20, 2001, from the Assistant to the President and Chief of Staff, entitled “Regulatory Review Plan,” 66 FR 7701 (Jan. 24, 2001), this document temporarily delays for 60 days the effective date of the rule entitled Special Regulations; Areas of the National Park System, published in the Federal Register on January 22, 2001, (66 FR 7259). That rule concerns the restrictions on snowmobiles and other winter activities in Yellowstone and Grand Teton National Parks as well as the John D. Rockefeller, Jr., Memorial Parkway.

DATES: The effective date of the Special Regulations; Areas of the National Park System, published in the Federal Register on January 22, 2001, (62 FR 7259), is delayed for 60 days, from February 21, 2001 to a new effective date of April 22, 2001.

FOR FURTHER INFORMATION CONTACT: Kym Hall, Regulations Program Manager, National Park Service, 1849 C Street, NW., Room 7413, Washington, DC 20240. Telephone (202) 208-4206.

SUPPLEMENTARY INFORMATION: To the extent that 5 U.S.C. section 553 applies to this action, the action is exempt from notice and comment because it constitutes a rule of procedure under 5 U.S.C. section 553(b)(A). Alternatively, the Department's implementation of this action without opportunity for public comment, effective immediately upon publication today in the Federal Register, is based on the good cause exceptions in 5 U.S.C. 553(b)(3)(B) and 553(d)(3), in that seeking public comment is impractical, unnecessary and contrary to the public interest. The temporary 60-day delay in effective date is necessary to give Department officials the opportunity for further review and consideration of new regulations, consistent with the Assistant to the President's memorandum of January 20, 2001. Given the imminence of the effective date, seeking prior public comment on this temporary delay would have been impractical, as sell as contrary to the public interest in the orderly promulgation and implementation of regulations.

Dated: January 29, 2001.
Timothy S. Elliott,
Acting Deputy Solicitor.

[FR Doc. 01-2786 Filed 1-29-01; 2:32 pm]

BILLING CODE 4310-70-M